DEPARTMENT OF STATE

[Public Notice: 9430]

Advisory Committee on International Economic Policy; Notice of Open Meeting

The Advisory Committee on International Economic Policy (ACIEP) will meet from 2 until 5 p.m., on Wednesday, February 17, in Washington, DC at the State Department, 320 21st Street NW. in conference room 4477. The meeting will be hosted by the Assistant Secretary of State for Economic and Business Affairs, Charles H. Rivkin and Committee Chair Paul R. Charron. The ACIEP serves the U.S. government in a solely advisory capacity, and provides advice concerning topics in international economic policy. It is expected that the ACIEP subcommittees will provide updates on their work.

This meeting is open to public participation, though seating is limited. Entry to the building is controlled. To obtain pre-clearance for entry, members of the public planning to attend should no later than Friday, February 12, provide their full name and professional affiliation to Alan Krill by email: KrillA@state.gov. Requests for reasonable accommodation should be made to Alan Krill before Friday, February 12. Requests made after that date will be considered, but might not be possible to fulfill.

This announcement might appear in the Federal Register less than 15 days prior to the meeting. The Department of State finds that there is an exceptional circumstance for such publication. Processing this Federal Register notice was delayed by a weather emergency in Washington, DC that closed the federal government on Friday, January 22, and Monday and Tuesday, January 25 and 26; and curtailed operations on Wednesday, January 27. The Department is providing as much notice to the public as possible given the emergency.

For additional information, contact Alan Krill, Office of Economic Policy Analysis and Public Diplomacy, Bureau of Economic and Business Affairs, at (202) 647-0812, or KrillA@state.gov.

Dated: January 28, 2016.
Alan Krill,
Designated Federal Official, U.S. Department of State.

[FR Doc. 2016-01997 Filed 2-2-16; 8:45 am]

BILLING CODE 4710-AE-P